DEPARTMENT OF DEFENSE

Office of the Secretary

Termination of Response Systems to Adult Sexual Assault Crimes Panel

AGENCY: DoD.

ACTION: Termination of Federal Advisory Committee.

SUMMARY: The Department of Defense is publishing this notice to announce that it is terminating the Response Systems to Adult Sexual Assault Crimes Panel, effective July 27, 2014.

FOR FURTHER INFORMATION CONTACT: Jim Freeman, Advisory Committee Management Officer for the Department of Defense, 703-692-5952.

SUPPLEMENTARY INFORMATION: This committee is being terminated under the provisions of the Federal Advisory Committee Act of 1972 (5 U.S.C. Appendix), 41 CFR 102-3.55, and the Government in the Sunshine Act of 1976 (5 U.S.C. 552b), effective September 30, 2014.

Dated: January 26, 2015.
Aaron Siegel,
Alternate OSD Federal Register Liaison Officer, Department of Defense.

[FR Doc. 2015-01659 Filed 1-28-15; 8:45 am]

BILLING CODE 5001-06-P